DEPARTMENT OF HOMELAND SECURITY

Coast Guard

33 CFR Part 117

[Docket No. USCG-2014-0923]

Drawbridge Operation Regulations; Cheesequake Creek, NJ

AGENCY: Coast Guard, DHS.

ACTION: Notice of deviation from drawbridge regulation.

SUMMARY: The Coast Guard has issued a temporary deviation from the operating schedule that governs the operation of the New Jersey Transit Rail Operations (NJTRO) railroad bridge across Cheesequake Creek, mile 0.2, at Morgan, New Jersey. The bridge owner will be performing structural repairs at the bridge. This deviation is necessary to allow the bridge to have only scheduled openings for two weekends to facilitate scheduled bridge maintenance.

DATES: This deviation is effective from 7 a.m. on November 8, 2014 through 7 p.m. on November 23, 2014.

ADDRESSES: The docket for this deviation, [USCG-2014-0923] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Joe M. Arca, Project Officer, First Coast Guard District, telephone (212) 668-7165, joe.m.arca@uscg.mil. If you have questions on viewing the docket, call Cheryl Collins, Program Manager, Docket Operations, telephone (202) 366-9826.

SUPPLEMENTARY INFORMATION: The NJTRO railroad bridge across Cheesequake Creek, mile 0.2, at Morgan, New Jersey, has a vertical clearance in the closed position of 3 feet at mean high water and 8 feet at mean low water. The existing bridge operating regulations are found at 33 CFR 117.709(b).

The waterway is transited by recreational and commercial vessels of various sizes.

The bridge owner, New Jersey Transit Rail Operations, requested a temporary deviation from the normal operating schedule to facilitate structural repairs at the bridge.

Under this temporary deviation the NJTRO railroad bridge shall operate on Saturday, November 8, 2014, Sunday, November 9, 2014, Saturday, November 15, 2014, and Sunday, November 16, 2014 as follows: Between 7 a.m. and 7 p.m. the draw shall open at 7 a.m., 10 a.m., 1 p.m., and 4 p.m. The draw shall maintain its normal operating schedule at all other times.

In the event of inclement weather the rain dates are Saturday, November 22, 2014 and Sunday, November 23, 2014.

There are no alternate routes for vessel traffic; however, vessels that can pass under the closed draws during this closure may do so at all times. The bridge may be opened in the event of an emergency.

The Coast Guard will inform the users of the waterways through our Local and Broadcast Notice to Mariners of the change in operating schedule for the bridges so that vessels can arrange their transits to minimize any impact caused by the temporary deviation.

In accordance with 33 CFR 117.35(e), the drawbridge must return to its regular operating schedule immediately at the end of the effective period of this temporary deviation. This deviation from the operating regulations is authorized under 33 CFR 117.35.

Dated: October 9, 2014.
C.J. Bisignano,
Supervisory Bridge Management Specialist, First Coast Guard District.

[FR Doc. 2014-25004 Filed 10-20-14; 8:45 am]

BILLING CODE 9110-04-P